DEPARTMENT OF AGRICULTURE

Forest Service

Request for Proposals for Two Special Focus Grants From National Urban and Community Forestry Advisory Council

AGENCY: Forest Service, USDA.

ACTION: Announcement of request for proposals for two special focus grants.

SUMMARY: The National Urban and Community Foresty Advisory Council (NUCFAC) is charged by law to provide recommendations to the Secretary of Agriculture on urban forestry related issues and opportunities. Part of the Council's role is to recommend the criteria for the Forest Service, U.S. Department of Agriculture's (Forest Service) Urban and Community Forestry (U&CF) Challenge Cost Share Grant Program. NUCFAC has recommended two special focus grant proposals for the Forest Service's 2009 U&CF Challenge Cost Share Grant Program. Therefore, the Forest Service is requesting proposals for the following two grants: Outreach Scholarships and Storm Event Protocol. Each grant will be solicited separately.

DATES: Grant proposal applications are due no later than 11:59 p.m., Eastern Time, June 5, 2009.

ADDRESSES: Grant proposal applications must be submitted to http://www.grants.gov. Electronic grant instructions and applications are posted on http://www.grants.gov. The instructions also are posted on the Forest Service Web site http://www.fs.fed.us/ucf/nucfac. An application must be registered in grants.gov in order to submit an application. The registration process may take up to two weeks.

Hard copies of the applications are available to applicants who do not have access to a computer. For a copy, contact Nancy Stremple, Executive Staff to National Urban and Community Forestry Advisory Council, 201 14th St., SW., Yates Building (1 Central) MS-1151, Washington, DC 20250-1151. To ensure timely submittal, it is recommended that all hardcopy applications be delivered through a courier service to the adress noted above.

FOR FURTHER INFORMATION CONTACT: Nancy Stremple or Pamela Williams, U.S. Forest Service, Urban and Community Forestry, 201 14th St., SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: A brief description of each of the special focus grant proposals follow.

Outreach Scholarships. This grant focuses on funding up to $100,000 for proposals that provide scholarships to non-traditional or underserved participants, and requires significant documentation of implementation of knowledge gained from the urban forestry related event.

Storm Event Protocol. This grant focuses on funding up to $50,000 for the development of a new storm event protocol that blends urban forest programs with emergency management operations. The purpose is to reduce the impact of storms on urban forests, lessen personal injuries and property damage, and decrease emergency management costs.

Dated: April 13, 2009.
Robin L. Thompson,
Associate Deputy Chief, State and Private Forestry.

[FR Doc. E9-8954 Filed 4-17-09; 8:45 am]

BILLING CODE 3410-11-P